DEPARTMENT OF COMMERCE

National Institute of Standards and Technology

National Conference on Weights and Measures 106th Annual Meeting

AGENCY: National Institute of Standards and Technology, Commerce.

ACTION: Notice.

SUMMARY: The 106th Annual Meeting of the National Conference on Weights and Measures (NCWM) will be held using a combined video conferencing platform for on-line attendance, and in-person at the Hyatt Regency Rochester in Rochester, New York, from Sunday, July 18, 2021, through Friday, July 23, 2021. This notice contains information about significant items on the NCWM Committee agendas but does not include all agenda items. As a result, the items are not consecutively numbered.

DATES: The 106th Annual Meeting will be held from Sunday, July 18, 2021, through Friday, July 23, 2021. The meeting schedule will be available on the NCWM website at www.ncwm.com.

ADDRESSES: This meeting will be held using a combined video conferencing (virtual) platform and in-person at the Hyatt Regency Rochester, 125 E Main St., Rochester, New York 14604.

FOR FURTHER INFORMATION CONTACT: Dr. Douglas Olson, NIST, Office of Weights and Measures (OWM), 100 Bureau Drive, Stop 2600, Gaithersburg, MD 20899-2600. You may also contact Dr. Olson at (301) 975-2956 or by email at douglas.olson@nist.gov. The meeting is open to the public, but a paid registration is required. Please see the NCWM website (www.ncwm.com) to view the meeting agendas, registration forms, and hotel reservation information.

SUPPLEMENTARY INFORMATION: Publication of this notice on the NCWM's behalf is undertaken as a public service and does not itself constitute an endorsement by the National Institute of Standards and Technology (NIST) of the content of the notice. NIST participates in the NCWM as an NCWM member and pursuant to 15 U.S.C. 272(b)(10) and (c)(4) and in accordance with Federal policy (e.g., OMB Circular A-119 “Federal Participation in the Development and Use of Voluntary Consensus Standards”).

The NCWM is an organization of weights and measures officials of the states, counties, and cities of the United States, and representatives from the private sector and federal regulatory agencies. These meetings can bring these government officials together with representatives of business, industry, trade associations, and consumer organizations to discuss proposed laws and regulations and other subjects related to the field of weights and measures technology, administration, and enforcement. NIST hosted the first meeting of the NCWM in 1905. Since then, the conference has provided a model of cooperation between Federal, State, and local governments and the private sector. NIST participates to encourage cooperation between federal agencies and the states in the development of legal metrology requirements. NIST also promotes uniformity in state laws, regulations, and testing procedures used in the regulatory control of commercial weighing and measuring devices, packaged goods, and for other trade and commerce issues.

The NCWM has established multiple Committees, Task Groups, and other working bodies to address legal metrology issues of interest to regulatory officials, industry, consumers, and others. The following are brief descriptions of some of the significant agenda items that will be considered by some of the NCWM Committees at the NCWM Annual Meeting. Comments will be taken on these and other issues during several public comment sessions. At this stage, the items are proposals.

This meeting will also have a voting session to ratify results of the 105th NCWM Annual Meeting virtual Vote. 85 FR 77170 (Dec. 1, 2020). The NCWM was unable to conduct an in-person meeting due to the COVID-19 pandemic and therefore held the 105th Annual Meeting using a video conferencing platform. Under the NCWM Bylaws and Roberts Rules of Order in effect at the time of the 105th NCWM Annual Meeting, items approved by a virtual vote are effective upon ratification at the next in-person meeting. NCWM petitioned the District Court of Lancaster County, Nebraska and received a court order allowing conducting virtual votes to ratify the results of the 105th NCWM Annual Meeting and to conduct virtual votes of all items of the 106th Annual Meeting.

These notices are intended to make interested parties aware of these development projects and to make them aware that reports on the status of the project will be given at the 2021 Annual Meeting. The notices are also presented to invite the participation of manufacturers, experts, consumers, users, and others who may be interested in these efforts.

The Specifications and Tolerances Committee (S&T Committee) will consider proposed amendments to NIST Handbook 44, “Specifications, Tolerances, and other Technical Requirements for Weighing and Measuring Devices” (NIST HB 44). Those items address weighing and measuring devices used in commercial applications, that is, devices that are used to buy from or sell to the public or used for determining the quantity of products or services sold among businesses. Issues on the agenda of the NCWM Laws and Regulations Committee (L&R Committee) relate to proposals to amend NIST Handbook 130, “Uniform Laws and Regulations in the Areas of Legal Metrology and Fuel Quality” (NIST HB 130) and NIST Handbook 133, “Checking the Net Contents of Packaged Goods” (NIST HB 133).

NCWM S&T Committee (S&T 106th Annual Meeting)

The following items are proposals to amend NIST HB 44:

Block 2 Items (B2) Define True Value for Use in Error Calculations

BLK-2: (SCL-20.3, SCL-20.4, SCL-20.5, SCL-20.6, SCL-20.7, and SCL-20.8)

The S&T Committee will further consider a proposal that has been designated as an “Assigned” item, meaning that further development will be done by a Task Group formed by the NCWM. The Task Group assigned to this item has submitted a “Final Report” to the Committee; however, the Task Group noted also that the report may benefit from further vetting. This “block” proposal includes six individual items related to the application of requirements based on that application to either “e” (the verification scale division) or “d” (the minimum scale division). Adoption of this proposal will have a significant effect on the regulation of scales, particularly where the values of “e” and “d” are not equal.

SCL—Scales

SCL-17.1 S.1.8.5. Recorded Representations, Point of Sale (POS) Systems

S.1.8.5. Recorded Representations, POS Systems, Appendix D—Definitions: Tare

Following a vote to not adopt this proposal during the 2020 NCWM Annual Meeting, this item was returned to the S&T Committee. This proposal would require additional sales information to be recorded by cash registers interfaced with a weighing element for items that are weighed at a checkout stand (i.e., a POS system). These systems are currently required to record the net weight, unit price, total price, and the product class, or in a system equipped with price look-up capability, the product name or code number. The change proposed would add “tare weight” to the sales information currently required. There was a presumption by the S&T Committee following the vote in January 2021, that last minute amendments to the proposal possibly resulted in the failure to be adopted.

Changes in this proposal are presented as a nonretroactive requirement with an enforcement date of January 1, 2022. Adoption of this proposal would require additional information (i.e., the tare weight) to appear on the sales receipt for items weighed at a checkout stand (POS Systems) on equipment installed into commercial service as of January 1, 2022. This proposed change would not affect equipment already in service.

SCL-20.12 Multiple Sections To Add Vehicle Weigh-in-Motion (WIM) to the Code and Appendix D

During the 2020 NCWM Annual Meeting, the Committee supported the proposal as being fully developed; however, the most recent version of the proposal may not have been given sufficient time to be vetted among the weights and measures community. The proposal was, however, given a voting status at the 2021 NCWM Interim Meeting. The S&T Committee will consider this proposal that would amend multiple sections in NIST HB 44 Scales Code so that it could be applied to WIM vehicle scales. This proposal is similar to another item that was withdrawn during the 2021 NCWM Interim Meeting (former item SCL-16.1). However, this proposal would only permit commercial weights from WIM equipment when the vehicles are weighed as a single draft and would not allow the summing of axle weights or axle group weights to determine a gross vehicle weight. The submitter of this proposal had provided an opportunity in March 2020 for several state regulatory officials, NCWM, and NIST OWM to witness testing performed on a single-draft vehicle scale. That demonstration provided results that this type of system is capable of producing weight values that comply with current NIST HB 44 Class III L tolerances.

Block 4 Items (B4) Electronically Captured Tickets or Receipts

The S&T Committee will consider a proposal to permit electronic captured tickets and receipts in NIST HB 44 Sections 1.10. General, 3.30. LMD, 3.31. VTM, 3.32. LPG, 3.34. CLM, 3.37. MFM, 3.38. CDL, 3.39. HGM, and 3.35. milk meters codes, and Appendix D Definitions to add electronic to the definition of recorded representation. The proposed language removes the term printed and replaces it with recorded representation so that there is an option to receive a printed ticket/receipt or an electronic ticket/receipt. The language was changed during the Interim Meeting based on comments expressing the need for printed tickets and now the proposal references NIST HB 44 G-S.5.6. in various specific codes. At the 2021 Interim Meeting, the S&T Committee designated this as a developing item for further comment and consideration.

OTH-21.1 Appendix A—2.1. Acceptance and Maintenance Tolerances

The S&T Committee will consider a proposal recommended to clarify if acceptance tolerances are to be applied to devices that have undergone routine accuracy adjustment not initiated by an official rejection. The submitter of this proposal submitted a different proposal in 2019 that was withdrawn by the Committee. However, the submitter has submitted a new item to fulfill that same purpose.

This item would amend NIST HB 44 Appendix A (Fundamental Considerations), section 2.1. to delete the verbiage “or adjusted” in the second paragraph of that section. The proposal would also add language in the same sentence stating, “. . . equipment returned to service following official rejection, or equipment undergoing NTEP evaluation,” to clarify when it is appropriate to apply acceptance tolerances.

The Committee accepted additional wording to the proposed language at the 2021 Interim Meeting and gave this item a Voting status for the 2021 Annual Meeting.

Block 5 Items (B5) Category 3 Methods of Sealing Blk-5: (LMD-20.1 W, LMD-21.1 D)

The S&T Committee will consider a proposal to permit the use of an electronic log in lieu of a printed copy of a Category 3 sealing method on liquid measuring devices. The current “Category 3” sealing requirements in NIST HB 44 Liquid-Measuring Devices Code (Section 3.30.) specify that a printed copy of an event logger must be available on demand through the device or through another on-site device and that the information may also be available electronically. The new proposal would amend the language in Table S.2.2. “Categories of Device and Methods of Sealing” of the Liquid-Measuring Devices Code (Section 3.30.) to permit either a printed or electronic form of the event logger to be made available. At the 2021 Interim Meeting, the Committee agreed to withdraw item LMD-20.1 from the block that was a similar proposal and designated this item as a developing item so that the submitters of both items could work together to further develop item LMD-21.1. EVF-21.4

S.3.3. Provision for Sealing

The S&T Committee will consider a proposal that will permit those systems that feature either a Category 2 or Category 3 method of sealing metrological features to provide that information in an electronic format during an inspection by weights and measures officials, in lieu of an electric vehicle fueling system providing a printed copy of its audit trail event records. At the 2021 Interim Meeting, the S&T Committee agreed to a voting status for this item at the 2021 Annual Meeting.

EVF-21.6 Definitions: Minimum Measured Quantity (MMQ)

The S&T Committee will consider a proposal to include a definition in NIST HB 44 Section 3.40. Electric Vehicle Fueling Systems—Tentative code to address the special meaning of MMQ for these systems in that it is the smallest unit declared by the manufacturer that is suitable for delivery and that will be in compliance. At the 2021 Interim Meeting, the S&T Committee designated these as Voting Items at the 2021 Annual Meeting.

NCWM L&R Committee

Issues on the 106th Annual agenda of the NCWM Laws and Regulations Committee (L&R Committee) relate to proposals to amend NIST HB 130.

The following items are proposals for modifying NIST HB 130 Uniform Method of Sale (MOS) and the Uniform Fuels and Automotive Lubricants Regulation (FLR):

Item Block (B1)—NIST HB 130, PAL-19.1. UPLR, Sec. 2.8. Multiunit Package. NET-19.2. NIST HB 133

Modify “scope” for Chapters 2 through 4, add a note following Sections 2.3.7.1. and 2.7.3., NET-19.3. and create a Chapter 5. Specialized Test Procedures in NIST HB 133. The L&R Committee will also be addressing a proposal to include adoption of a test procedure for the total quantity declaration on multiunit or variety packages. In addition, in NIST HB 130, Uniform Packaging and Labeling Regulation, the proposal would clarify Section 2.8. Multiunit.

Item MOS-20.5 Section 2.21 Liquefied Petroleum Gas

The L&R Committee will consider a proposal to modify the existing language for the method of sale of Liquefied Petroleum Gas. The language was changed during the NCWM Interim Meeting and is a Voting Item. Recommended changes to the existing language reference a value of “15.6 °C” for temperature determinations in metric units. According to the current industry practice for sales of petroleum products, the reference temperature for sales in metric are based on 15 °C rather than the exact conversion from 60 °F (which is 15.6 °C). Thus, the temperature reference in metric should be 15 °C.

Item—FLR-20.5 Section 2.1.2.(a) Gasoline-Ethanol Blends

The L&R Committee will consider a proposal to modify the existing NIST HB130 FLR, Sec. 2.1.2.(a) Gasoline-Ethanol Blends to include a statement to clarify the maximum vapor pressure limits by more than 1.0 psi for blends “containing at least 9 and not more than 15 vol % ethanol” from June 1 through September 15 as allowed by EPA 40 CFR 80.27(d).

The Fuels and Lubricants Subcommittee will consider modifications to modify Item Block 3—MOS 21.1. and FLR-21.2 Labeling and Identification of Transmission Fluid, a proposal to modify the language to include a cautionary statement of package labels of obsolete transmission fluids.

Authority: 15 U.S.C. 272(b).

Alicia Chambers,
NIST Executive Secretariat.

[FR Doc. 2021-10677 Filed 5-19-21; 8:45 am]

BILLING CODE 3510-13-P